FEDERAL COMMUNICATIONS COMMISSION

47 CFR Part 1

[WC Docket No. 17-84, WT Docket No. 17-79; Report No. 3105]

Petitions for Reconsideration of Action in Rulemaking Proceeding

AGENCY: Federal Communications Commission.

ACTION: Petitions for reconsideration.

SUMMARY: Petitions for Reconsideration (Petitions) have been filed in the Commission's Rulemaking proceeding by Joseph Van Eaton, on behalf of Smart Communities and Special District Coalition, Bruce Regal, on behalf of The City of New York, Michael C. Levine, on behalf of Country Road Association of Michigan and Thomas B. Magee, on behalf of Coalition of Concerned Utilities.

DATES: Oppositions to the Petitions must be filed on or before November 9, 2018. Replies to an opposition must be filed on or before November 19, 2018.

ADDRESSES: Federal Communications Commission, 445 12th Street SW, Washington, DC 20554.

FOR FURTHER INFORMATION CONTACT: Adam Copeland, Wireline Competition Bureau, at: (202) 418-1037; email: Adam.Copeland@fcc.gov.

SUPPLEMENTARY INFORMATION: This is a summary of the Commission's document, Report No. 3105, released October 18, 2018. The full text of the Petitions is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5.U.S.C. 801(a)(1)(A), because no rules are being adopted by the Commission.

Subject: Accelerating Wireline Broadband Deployment by Removing Barriers to Infrastructure Investment, FCC 18-111, published at 83 FR 46812, September 14, 2018, in WC Docket No. 17-84; WT Docket No 17-79. This document is being published pursuant to 47 CFR 1.429(e). See also 47 CFR 1.4(b)(1) and 1.429(f), (g).

Number of Petitions Filed: 4.

Federal Communications Commission.
Marlene Dortch,
Secretary, Office of the Secretary.

[FR Doc. 2018-23355 Filed 10-24-18; 8:45 am]

BILLING CODE 6712-01-P